DEPARTMENT OF DEFENSE

United States Marine Corps; Privacy Act of 1974; System of Records

AGENCY: United States Marine Corps, DoD.

ACTION: Notice to add a records system.

SUMMARY: The U.S. Marine Corps is adding a system of records notice from its inventory of records systems subject to the Privacy Act of 1974, as amended (5 U.S.C. 552a).

DATES: The addition will be effective on (insert date thirty days after date published in the Federal Register) unless comments are received that would result in a contrary determination.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records system notices for records systems subject to the Privacy Act of 1974 (5 U.S.C. 552a), as amended, have been published in the Federal Register and are available from the address above.

The proposed system report, as required by 5 U.S.C. 552a(r) of the Privacy Act of 1974, as amended, was submitted on October 1, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: October 6, 2003.
Patricia Toppings,
Alternate OSD Federal Register Liaison Officer, Department of Defense.

M01754-4

System name:

Marine For Life Program.

System location:

Primary Location: Marine For Life Program, Headquarters, U.S. Marine Corps, Manpower and Reserve Affairs Department, Reserve Affairs Division, 3280 Russell Road, Quantico, VA 22134-5103.

Categories of individuals covered by the system:

Honorably discharged Marines seeking assistance transitioning to civilian life.

Categories of records in the system:

Name, rank/grade, Social Security Number, date of birth, home of record, current address/contact information, duty status, component code, sex, security investigation date/type, separation document code, education, enlistment contract details (EAS, ECC, EOS), training information to include military occupational specialties, and related data.

Authority for maintenance of the system:

10 U.S.C., Chapter 58, Benefits and services for members being separated or recently separated; 10 U.S.C. 5041, Headquarters, Marine Corps; and E.O. 9397 (SSN).

Purpose(s):

To provide transition assistance and sponsorship for Marines who honorably leave active service and return to civilian life. Information will also be used to monitor the type and quality of services provided to transitioning Marines.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Marine Corps' compilation of systems of records notices apply to this system.

Policies and practices for storing, retrieving, accessing, retaining, and disposing of records in the system:

Storage:

Automated records are stored on computer hard drives and computer disks.

Retrievability:

Information is retrieved by the transitioning Marine's name and/or Social Security Number.

Safeguards:

Computer facilities are located in restricted areas accessible only by authorized persons who are properly screened, cleared, and trained. Database records are password protected. Access is restricted to the transitioning Marine (record subject) and to authorized Agency personnel who have established an official need-to-know. Based on user profiles, there are different levels of access. No one, other than Marine For Life personnel, has access to any information not “unlocked” by the record subject. All users can see “unlocked” information. Full access to information maintained in the database is available only to authorized Agency personnel with established official need-to-know.

Retention and disposal:

Records are maintained while the transitioning Marine is in service and for a period of 11 months after separation.

System manager(s) and address:

Branch Head, Marine For Life Program, Headquarters, U.S. Marine Corps, Manpower and Reserve Affairs Department, Reserve Affairs Division, 3280 Russell Road, Quantico, VA 22134-5103.

Notification procedure:

Individuals seeking to determine whether information about themselves is contained in this system should either log onto the web database at http://www.marineforlife.com or address written inquiries to Branch Head, Marine For Life Program, Headquarters, U.S. Marine Corps, Manpower and Reserve Affairs Department, Reserve Affairs Division, 3280 Russell Road, Quantico, VA 22134-5103.

Written requests must be signed and contain the transitioning Marine's full name and Social Security Number.

Record access procedures:

Individuals seeking access to information about themselves contained in this system should either log onto the web database at http://www.marineforlife.com or address written inquiries to Branch Head, Marine For Life Program, Headquarters, U.S. Marine Corps, Manpower and Reserve Affairs Department, Reserve Affairs Division, 3280 Russell Road, Quantico, VA 22134-5103.

Written requests must be signed and contain the transitioning Marine's full name and Social Security Number.

Contesting record procedures:

The USMC rules for contesting contents and appealing initial agency determinations are published in Secretary of the Navy Instruction 5211.5; Marine Corps Order P5211.2; 32 CFR part 701; or may be obtained from the system manager.

Record source categories:

Transitioning Marines and the Marine Corps Total Force System database.

Exemptions claimed for the system:

None.

[FR Doc. 03-25854 Filed 10-10-03; 8:45 am]

BILLING CODE 5001-08-P